ENVIRONMENTAL PROTECTION AGENCY

40 CFR Part 52

[EPA-R04-OAR-2021-0618; FRL-9242-03-R4]

Air Plan Approval; North Carolina; Volatile Organic Compound Regulations; Correction

AGENCY: Environmental Protection Agency (EPA).

ACTION: Final rule; correction.

SUMMARY: The Environmental Protection Agency (EPA) published a final rule that appeared in the Federal Register on August 4, 2023, titled “Air Plan Approval; North Carolina; Volatile Organic Compound Regulations.” The document approved revisions to the North Carolina State Implementation Plan concerning several updates to the North Carolina Department of Environmental Quality's air regulations which apply to sources that emit volatile organic compounds. EPA approved those changes pursuant to the Clean Air Act. An error in the instructions amending the Code of Federal Regulations (CFR) in the document is identified and corrected in this action. This correction does not change any final action taken by EPA in the August 4, 2023, final rule.

DATES: Effective September 8, 2023.

ADDRESSES: EPA has established a docket for this action under Docket Identification No. EPA-R04-OAR-2021-0618. All documents in the docket are listed on the regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Sarah LaRocca, Air Planning and Implementation Branch, Air and Radiation Division, U.S. Environmental Protection Agency, Region 4, 61 Forsyth Street SW, Atlanta, Georgia 30303-8960. Ms. LaRocca can be reached via electronic mail at larocca.sarah@epa.gov or via telephone at (404) 562-8994.

SUPPLEMENTARY INFORMATION: EPA published a final rule in the Federal Register on August 4, 2023 (88 FR 51713), titled “Air Plan Approval; North Carolina; Volatile Organic Compound Regulations.” The final rule approved changes to the following regulations in North Carolina's SIP: 15A North Carolina Administrative Code Subchapter 02D, Rules .0901, Definitions; .0902, Applicability; .0903, Recordkeeping: Reporting: Monitoring; .0906, Circumvention; .0909, Compliance Schedules for Sources in Ozone Nonattainment and Maintenance Areas; .0912, General Provisions on Test Methods and Procedures; .0918, Can Coating; .0919, Coil Coating; .0922, Metal Furniture Coatings; .0923, Surface Coating of Large Appliance Parts; .0924, Magnet Wire Coating; .0925, Petroleum Liquid Storage in Fixed Roof Tanks; .0928, Gasoline Service Stations Stage 1; .0930, Solvent Metal Cleaning; .0931, Cutback Asphalt; .0933, Petroleum Liquid Storage in External Floating Roof Tanks; .0935, Factory Surface Coating of Flat Wood Paneling; .0937, Manufacture of Pneumatic Rubber Tires; .0943, Synthetic Organic Chemical and Polymer Manufacturing; .0944, Manufacture of Polyethylene: Polypropylene and Polystyrene; .0945 Petroleum Dry Cleaning; .0947, Manufacture of Synthesized Pharmaceutical Products; .0948, VOC Emissions from Transfer Operations; .0949, Storage of Miscellaneous Volatile Organic Compounds; .0951, RACT For Sources of Volatile Organic Compounds; .0955, Thread Bonding Manufacturing; .0956, Glass Christmas Ornament Manufacturing; .0957, Commercial Bakeries; .0961, Offset Lithographic Printing and Letterpress Printing; .0962, Industrial Cleaning Solvents; .0963, Fiberglass Boat Manufacturing Materials; .0964, Miscellaneous Industrial Adhesives; .0965, Flexible Package Printing; .0966, Paper, Film and Foil Coatings; .0967, Miscellaneous Metal and Plastic Parts Coatings; and .0968, Automobile and Light Duty Truck Assembly Coatings. However, the Federal Register document contained an error in the instructions regarding amendments to the table titled “EPA-Approved North Carolina Regulations” found at 40 CFR 52.1770(c)(1). See 88 FR 51715. In the instructions, EPA inadvertently referred to the table entries to be amended as “Section .0901,” “Section .0902,” “Section .0903,” “Section .0906,” “Section .0909,” “Section .0912,” “Section .0918,” “Section .0919,” “Section .0922,” “Section .0923,” “Section .0924,” “Section .0925,” “Section .0928,” “Section .0930,” “Section .0931,” “Section .0933,” “Section .0935,” “Section .0937,” “Section .0943,” “Section .0944,” “Section .0945,” “Section .0947,” “Section .0948,” “Section .0949,” “Section .0951,” “Section .0955,” “Section .0956,” “Section .0957,” “Section .0961,” “Section .0962,” “Section .0963,” “Section .0964,” “Section .0965,” “Section .0966,” “Section .0967,” and “Section .0968” instead of “Rule .0901,” “Rule .0902,” “Rule .0903,” “Rule .0906,” “Rule .0909,” “Rule .0912,” “Rule .0918,” “Rule .0919,” “Rule .0922,” “Rule .0923,” “Rule .0924,” “Rule .0925,” “Rule .0928,” “Rule .0930,” “Rule .0931,” “Rule .0933,” “Rule .0935,” “Rule .0937,” “Rule .0943,” “Rule .0944,” “Rule .0945,” “Rule .0947,” “Rule .0948,” “Rule .0949,” “Rule .0951,” “Rule .0955,” “Rule .0956,” “Rule .0957,” “Rule .0961,” “Rule .0962,” “Rule .0963,” “Rule .0964,” “Rule .0965,” “Rule .0966,” “Rule .0967,” and “Rule .0968” and therefore inadvertently sought to replace, rather than revise, those entries. EPA is now correcting that error.

Correction

§ 52.1770 [Corrected]

In FR Doc. 2023-16600, published at 88 FR 51713 in the issue of August 4, 2023, on page 51715, in the second and third columns, amendatory instruction 2 for § 52.1770 is corrected to read as follows:

2. In § 52.1770, amend the table in paragraph (c)(1) by revising the entries for “Rule .0901,” “Rule .0902,” “Rule .0903,” “Rule .0906,” “Rule .0909,” “Rule .0912,” “Rule .0918,” “Rule .0919,” “Rule .0922,” “Rule .0923,” “Rule .0924,” “Rule .0925,” “Rule .0928,” “Rule .0930,” “Rule .0931,” “Rule .0933,” “Rule .0935,” “Rule .0937,” “Rule .0943,” “Rule .0944,” “Rule .0945,” “Rule .0947,” “Rule .0948,” “Rule .0949,” “Rule .0951,” “Rule .0955,” “Rule .0956,” “Rule .0957,” “Rule .0961,” “Rule .0962,” “Rule .0963,” “Rule .0964,” “Rule .0965,” “Rule .0966,” “Rule .0967,” and “Rule .0968” to read as follows:

Dated: August 25, 2023.
Carol Kemker,
Acting Regional Administrator, Region 4.

[FR Doc. 2023-18708 Filed 8-30-23; 8:45 am]

BILLING CODE 6560-50-P